DEPARTMENT OF COMMERCE

National Oceanic and Atmospheric Administration (NOAA)

Marine Protected Areas Federal Advisory Committee; Public Meeting

AGENCY: National Ocean Service, NOAA, Department of Commerce

ACTION: Notice of open meeting.

SUMMARY: Notice is hereby given of a meeting of the Marine Protected Areas Federal Advisory Committee (MPA FAC) in Alpena, Michigan.

DATES: The meeting will be held Tuesday, October 23, 2007, from 8:30 a.m. to 5 p.m., Wednesday, October 24, 2007, from 8 a.m. to 5 p.m., and Thursday, October 25, 2007, from 8 a.m. to 3:45 p.m. These times and the agenda topics described below are subject to change. Refer to the Web page listed below for the most up-to-date meeting agenda.

ADDRESSES: The meeting will be held at the Great Lakes Maritime Heritage Center, 500 West Fletcher Street, Apena, Michigan 49707.

FOR FURTHER INFORMATION CONTACT: Lauren Wenzel, Designated Federal Officer, MPA, FAC, National Marine Protected Areas Center, 1305 East West Highway, Silver Spring, Maryland 20910. (Phone: 301-713-3100 x136, Fax: 301-713-3110; e-mail: lauren.wenzel@noaa.gov; or visit the National MPA Center Web site at http://www.map.gov).

SUPPLEMENTARY INFORMATION: The MPA FAC, composed of external, knowledgeable representatives of stakeholder groups, was established by the Department of Commerce (DOC) to provide advice to the Secretaries of Commerce and the Interior on implementation of Section 4 of Executive Order 13158 on MPAs. The meeting will be open to public participation from 4:15 p.m. to 5 p.m. on Tuesday, October 23, 2007, and from 8:05 a.m. to 9:05 a.m. on Thursday, October 25, 2007. In general, each individual or group making a verbal presentation will be limited to a total time of five (5) minutes. If members of the public wish to submit written statements, they should be submitted to the Designated Federal Official by October 19, 2007.

Matters to be Considered: The MPA FAC will work in Subcommittees and as a full Committee to develop recommendations for the Department of Commerce and the Department of the Interior on the regional coordination of the national system of marine protected areas; incentives; and natural and social science needed to support the national system. The Agenda is subject to change, and the latest version will be posted at http://www.mpa.gov.

Dated: September 17, 2007.
David M. Kennedy,
Director, Office of Ocean and Coastal Resource Management.

[FR Doc. 07-4704 Filed 9-21-07; 8:45 am]

BILLING CODE 3510-08-M